DEPARTMENT OF JUSTICE

Office of Justice Programs

[OJP (OJJDP) Docket No. 1495]

Meeting of the Federal Advisory Committee on Juvenile Justice.

AGENCY: Office of Juvenile Justice and Delinquency Prevention, Office of Justice Programs, Justice.

ACTION: Notice of meeting.

SUMMARY: The Office of Juvenile Justice and Delinquency Prevention (OJJDP) is announcing the Spring meeting of the Federal Advisory Committee on Juvenile Justice (FACJJ), which will be held in Washington, DC March 16-17, 2009.

Dates and Locations: The meeting times and locations are as follows:

1. Monday, March 16, 2009, 8 a.m. to 6 p.m., Office of Justice Programs, 810 Seventh Street, NW., Washington, DC 20531. (Open to Public)

2. Tuesday, March 17, 2009, 7:30 a.m. to 12 p.m., Oak Hill Youth Center Tour, Laurel, Maryland. (Closed Non-Deliberative Session.)

FOR FURTHER INFORMATION CONTACT: Robin Delany-Shabazz, Designated Federal Official, OJJDP, Robin.Delany-Shabazz@usdoj.gov, or 202-307-9963.

Note: This is not a toll-free number.

SUPPLEMENTARY INFORMATION: The Federal Advisory Committee on Juvenile Justice (FACJJ), established pursuant to Section 3(2)A of the Federal Advisory Committee Act (5 U.S.C. App.2), will meet to carry out its advisory functions under Section 223(f)(2)(C-E) of the Juvenile Justice and Delinquency Prevention Act of 2002. The FACJJ is composed of one representative from each state and territory. FACJJ duties include: reviewing Federal policies regarding juvenile justice and delinquency prevention; advising the OJJDP Administrator with respect to particular functions and aspects of OJJDP; and advising the President and Congress with regard to State perspectives on the operation of OJJDP and Federal legislation pertaining to juvenile justice and delinquency prevention. More information, including a member list, may be found at http://www.facjj.org.

Meeting Agenda

1. Monday, March 16, 2009

• 8 a.m.-11:45 a.m. Registration; Call to Order; Remarks by the Acting OJJDP Administrator; and Overview and Discussion in Small Groups of 2009 Annual Report Final Drafts (Open Session)

• 11:45 a.m.-1:45 p.m. Working Lunch/Sub Committee Meetings (Closed Session)

• 1:45 p.m.-6 p.m. Sub Committee Report Outs; Review and Discussion of 2009 Annual Report Final Drafts; Meeting Adjournment (Open Session)

2. Tuesday, March 17, 2009

• 7:30 a.m.-12 p.m. Tour, Oak Hill Youth Center, Laurel, Maryland. (Closed Non-Deliberative Session).

For security purposes, members of the FACJJ and of the public who wish to attend, must pre-register online at http://www.facjj.org. Should problems arise with Web registration, call Daryel Dunston at 240-221-4343. Members of the public must register by Monday, March 9, 2009. [Note: these are not toll-free telephone numbers.] Additional identification documents may be required. Space is limited.

Please note: Photo identification will be required for admission to the meeting.

Written Comments

Interested parties may submit written comments by Monday, March 9, 2009, to Robin Delany-Shabazz, Designated Federal Official for the Federal Advisory Committee on Juvenile Justice, OJJDP, at Robin.Delany-Shabazz@usdoj.gov. If e-mail is not available, please fax your comments to 202-307-2819 and call Joyce Mosso at 202-305-4445 to ensure that the fax was received. [Note: These are not toll-free numbers.] No oral presentations will be permitted at the meeting. However, written questions and comments from members of the public attending the meeting may be invited.

Dated: February 11, 2009.
Jeff Slowikowski,
Acting Administrator, Office of Juvenile Justice and Delinquency Prevention.

[FR Doc. E9-3254 Filed 2-13-09; 8:45 am]

BILLING CODE 4410-18-P